Title 3—

The President

Proclamation 7890 of April 28, 2005

National Charter Schools Week, 2005

By the President of the United States of America

A Proclamation

Strong schools are the building blocks of a prosperous and hopeful country. To ensure that all our children receive the education they need to succeed, schools must be innovative, accountable, and committed to student achievement. The charter school movement was founded on these principles and has played an important role in expanding educational choices in America. This week, we highlight the importance of charter schools and recognize their contributions to American education.

Charter schools are unique because they are public schools operating under a contract from a public agency. In exchange for increased flexibility in teaching methods and curricula, these schools promise to meet strict accountability standards designed to improve student performance. Four hundred new charter schools opened in 32 states for the 2004-2005 school year, and there are nearly 3,400 charter schools serving almost one million children in America. These institutions have provided a valuable alternative to families throughout the country.

My Administration is committed to advancing public education in America. The No Child Left Behind Act of 2001 is bringing increased accountability to our schools. Test scores are rising, and the achievement gap for minority students is closing. Our continued strong commitment to this legislation is ensuring that parents have greater flexibility when deciding on how best to educate their children. To support and enhance school choice, I have proposed $219 million for Charter School Grants and $37 million for Credit Enhancement for Charter School Facilities. I have also called for $50 million in new funding for the Choice Incentive Fund to support development of innovative school-choice programs.

We must continue to demand better results from our schools so that every high school diploma represents a significant level of educational achievement and all graduates are armed with the tools to succeed in the 21st Century. I commend the teachers and administrators of charter schools and all educators who are providing innovative alternatives that prepare our children for a bright and successful future.

NOW, THEREFORE, I, GEORGE W. BUSH, President of the United States of America, by virtue of the authority vested in me by the Constitution and laws of the United States, do hereby proclaim May 1 through 7, 2005, as National Charter Schools Week. I call on parents of charter school students and all those involved with charter schools to share their success stories and help Americans learn more about the important work of these institutions.

IN WITNESS WHEREOF, I have hereunto set my hand this twenty-eighth day of April, in the year of our Lord two thousand five, and of the Independence of the United States of America the two hundred and twenty-ninth.

B

[FR Doc. 05-8941

Filed 5-2-05; 9:55 am]

Billing code 3195-01-P